DEPARTMENT OF LABOR

Employment and Training Administration

[TA-W-52,229]

Motorola, Inc., Global Telecom Solutions Sector (GTSS), Cellular Infrastructure Group, Fort Worth, Texas; Notice of Termination of Investigation

Pursuant to section 221 of the Trade Act of 1974, an investigation was initiated on July 3, 2003, in response to a petition filed on behalf of workers at Motorola, Inc., Global Telecom Solutions Sector (GTSS), Cellular Infrastructure Group, Fort Worth, Texas.

This petitioning group of workers is covered by an active certification issued on September 30, 2002 and which remains in effect (TA-W-41,716). Consequently, further investigation in this case would serve no purpose, and the investigation has been terminated.

Signed in Washington, DC this 11th day of July 2003.
Elliott S. Kushner,
Certifying Officer, Division of Trade Adjustment Assistance.

[FR Doc. 03-19227 Filed 7-28-03; 8:45 am]

BILLING CODE 4510-30-P